DEPARTMENT OF COMMERCE

International Trade Administration

[A-401-808]

Purified Carboxymethylcellulose from Sweden: Notice of Rescission of Antidumping Duty Administrative Review

AGENCY: Import Administration, International Trade Administration, Department of Commerce.

EFFECTIVE DATE: September 29, 2008.

FOR FURTHER INFORMATION CONTACT: Patrick Edwards or Angelica Mendoza, AD/CVD Operations, Office 7, Import Administration, International Trade Administration, U.S. Department of Commerce, 14th Street and Constitution Avenue, NW, Washington, DC 20230; telephone: (202) 482-8029 or (202) 482-3019, respectively.

SUPPLEMENTARY INFORMATION:

Background

On July 11, 2008, the Department of Commerce (the Department) published in the Federal Register the notice of opportunity to request an administrative review of the antidumping duty order on purified carboxymethylcellulose (CMC) from Sweden for the period July 1, 2007, through June 30, 2008. See Antidumping or Countervailing Duty Order, Finding, or Suspended Investigation; Opportunity To Request Administrative Review, 73 FR 39948 (July 11, 2008). On July 11, 2008, the Department received a timely filed request for review from CP Kelco AB (CP Kelco), on behalf of CP Kelco, CP Kelco U.S. Inc., Huber Engineered Materials, and J.M. Huber Corporation. On July 14, 2008, the Department received a request for review from The Aqualon Company, a division of Hercules Incorporated, the sole domestic producer of purified CMC (petitioner). On August 26, 2008, the Department published in the Federal Register the notice of initiation of the 2007-2008 administrative review of purified CMC from Sweden. See Initiation of Antidumping and Countervailing Duty Administrative Reviews, 73 FR 50308 (August 26, 2008). Both petitioner and CP Kelco filed their entry of appearance in this administrative review on July 14, 2008, and September 2, 2008, respectively. The Department issued its antidumping duty questionnaire to CP Kelco on September 5, 2008.

Rescission of Antidumping Administrative Review

On September 8, 2008, we received timely filed submissions from CP Kelco and petitioner withdrawing their requests for an administrative review of CP Kelco's entries of purified CMC to the United States. Both parties filed the withdrawal requests within the deadline established by section 351.213(d)(1) of the Department's regulations. No other parties have requested a review of CP Kelco or any other producer or exporter of the subject merchandise. Therefore, we are rescinding the above-cited administrative review in accordance with 19 CFR 351.213(d)(1).

Assessment

The Department will instruct U.S. Customs and Border Protection (CBP) to assess antidumping duties on all appropriate entries. For the company for which this review is rescinded, antidumping duties shall be assessed at rates equal to the cash deposit of estimated antidumping duties required at the time of entry, or withdrawal from warehouse, for consumption, in accordance with 19 CFR 351.212(c)(1)(i). The Department intends to issue appropriate assessment instructions directly to CBP not later than 15 days after publication of this notice.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding Administrative Protective Orders

This notice also serves as a reminder to parties subject to administrative protective orders (APOs) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i) of the Tariff Act of 1930, as amended, and 19 CFR 351.213(d)(4).

Dated: September 22, 2008.
Stephen J. Claeys,
Deputy Assistant Secretary for Import Administration.

[FR Doc. E8-22887 Filed 9-26-08; 8:45 am]

BILLING CODE 3510-DS-S